SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes one revision and one extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, DCRDP, Attn: Reports Clearance Director, 107 Altmeyer Building, 6401 Security Blvd., Baltimore, MD 21235, Fax: 410-966-2830, Email address: OPLM.RCO@ssa.gov.

I. The information collection below is pending at SSA. SSA will submit the information collection to OMB within 60 days from the date of this notice. To be sure we consider your comments, we must receive them no later than August 21, 2012. Individuals can obtain copies of the collection instruments by writing to the above email address.

Request for Deceased Individual's Social Security Record—20 CFR 402.130—0960-0665. When a member of the public requests an individual's Social Security record, SSA needs the name and address of the requestor as well as a description of the requested record to process the request. SSA uses the information the respondent provides on Form SSA-711, or via an Internet request through SSA's electronic Freedom of Information Act (eFOIA) Web site, to (1) verify the wage earner is deceased and 2) access the correct Social Security record. Respondents are members of the public requesting deceased individuals' Social Security records.

Type of Request: Revision of an OMB-approved information collection.

Collection method | Number of respondents | Frequency of response | Average burden per response (minutes) | Estimated total annual burden (hours)
Internet Request through eFOIA | 49,800 | 1 | 7 | 5,810
SSA-711 (paper) | 200 | 1 | 7 | 23
Total | 50,000 |  |  | 5,833

II. SSA submitted the information collection below to OMB for clearance. Your comments regarding the information collection would be most useful if OMB and SSA receive them within 30 days from the date of this publication. To be sure we consider your comments, we must receive them no later than July 23, 2012. Individuals can obtain copies of the OMB clearance package by writing to OPLM.RCO@ssa.gov.

Representative Payment Policies Regulation—20 CFR 404.2011, 404.2025, 416.611, 416.625—0960-0679. If SSA determines it may cause substantial harm for beneficiaries to receive their payments directly, beneficiaries may dispute that decision. To do so, beneficiaries must provide SSA with information the agency will use to re-evaluate its determination. In addition, after SSA selects a representative payee to receive benefits on a beneficiary's behalf, the payees provide SSA with information on their continuing relationship and responsibility for the beneficiaries, and explain how they use the beneficiaries' payments. This Information Collection Request is for the Code of Federal Regulations (CFR) citations that mandate the above provisions.

Type of Request: Extension of an OMB-approved information collection.

CFR section | Number of respondents | Frequency of response | Average burden per response (minutes) | Estimated total annual burden (hours)
404.2011(a)(1), 416.611(a)(1) | 250 | 1 | 15 | 63
404.2025, 416.625 | 3,000 | 1 | 6 | 300
Totals | 3,250 |  |  | 363

Dated: June 19, 2012.
Faye Lipsky,
Reports Clearance Director, Office of Regulations and Reports Clearance, Social Security Administration.

[FR Doc. 2012-15263 Filed 6-21-12; 8:45 am]

BILLING CODE 4191-02-P